LEGAL SERVICES CORPORATION

Sunshine Act Meeting of the Board of Directors and Its Committees; Amended Notice; Changes to Board of Directors Meeting Agenda

Notice

The Legal Services Corporation (LSC) is announcing an amendment to the notice announcing the October 18-19, 2010 meetings of the Board of Directors and its Committees. The meetings will be announced in the Federal Register on October 13, 2010. The amendment is being made to reflect changes to the agenda for the Board of Directors' meeting. There are no other changes.

Amended Board of Directors Agenda: The Board of Directors meeting agenda is amended move from Open Session to Closed Session the following item, originally appearing as item number 17:

“Consider and act on Management request for authorization to increase the maximum number of hours of accrued vacation leave that may be carried over to the next year.”

This item has been moved to the Closed Session portion of the Board's meeting agenda and now appears as item number 27. The basis for the closure and the amended agenda for the Board of Directors' meeting follow.

Status of Meeting: Open, except as noted below.

• Board of Directors—Open, except that a portion of the meeting of the Board of Directors may be closed to the public pursuant to a vote of the Board of Directors to consider and perhaps act on the General Counsel's report on potential and pending litigation involving LSC, to hear a briefing from management on labor relations matters, and to be briefed by LSC's Inspector General.¹

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

Amended Agenda

Board of Directors

Agenda

Open Session

1. Pledge of Allegiance.

2. Approval of agenda.

3. Approval of Minutes of the Board's Open Session meeting of July 21, 2010.

4. Approval of Minutes of the Board's Open Session Telephonic meeting of September 21, 2010.

5. Chairman's Report.

6. Members' Reports.

7. Gulf Coast Update presented by:

a. James Fry, Executive Director, Legal Services of Alabama

b. Mark Moreau, Executive Director, Southeast Louisiana Legal Services.

c. Samuel Buchanan, Executive Director, Mississippi Center for Legal Services.

8. President's Report.

9. Inspector General's Report.

10. Consider and act on the report of the Search Committee for LSC President.

11. Consider and act on the report of the Promotion & Provision for the Delivery of Legal Services Committee.

12. Consider and act on the report of the Finance Committee.

13. Consider and act on the report of the Audit Committee.

14. Consider and act on the report of the Operations & Regulations Committee

15. Consider and act on the report of the Governance & Performance Review Committee.

16. Consider and act on Resolution 2010-XXX Authorizing the Board Chairman to Appoint Non-Directors to the Board of Directors' Development Committee.

17. Consider and act on Resolutions 2010-008g-j thanking outgoing Board Members for their service and contributions to the Legal Services Corporation.

18. Consider and act on Meeting Schedule for calendar year 2011.

19. Public comment.

20. Consider and act on other business.

21. Consider and act on whether to authorize an executive session of the Board to address items listed below under Closed Session.

Closed Session

22. Approval of Minutes of the Board's Closed Session meeting of July 21, 2010.

23. Approval of Minutes of the Board's Closed Session meeting of September 21, 2010.

24. IG briefing of the Board.

25. Consider and act on General Counsel's report on potential and pending litigation involving LSC.

26. Briefing: Update on Internal Personnel Matters (by telephone).

a. Presentation by Linda Mullenbach, Senior Assistant. General Counsel, and Alice Dickerson, Director, Office of Human Resources.

27. Consider and act on Management request for authorization to increase the maximum number of hours of accrued vacation leave that may be carried over to the next year.

28. Consider and act on motion to adjourn meeting.

Contact Person for Information: Katherine Ward, Executive Assistant to the Vice President & General Counsel, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Katherine Ward, at (202) 295-1500 or FR_NOTICE_QUESTIONS@lsc.gov.

Dated: October 12, 2010.
Patricia D. Batie,
Corporate Secretary.

[FR Doc. 2010-26078 Filed 10-12-10; 4:15 pm]

BILLING CODE 7050-01-P